FEDERAL MINE SAFETY AND HEALTH REVIEW COMMISSION

Sunshine Act Meeting

TIME AND DATE: 2 p.m., Thursday, February 17, 2011.

PLACE: The Richard V. Backley Hearing Room, 9th Floor, 601 New Jersey Avenue, NW., Washington, DC.

STATUS: Closed.

MATTERS TO BE CONSIDERED: The Commission considered the following in a closed session: Secretary of Labor on behalf of Mark Gray v. North Fork Coal Corporation, Docket No. KENT 2009-1429-D. (Issues include whether the Commission should grant or deny a petition for reconsideration filed by the operator which addresses questions concerning the economic reinstatement of a miner.)

This meeting was closed to the public in accordance with the exemption in 5 U.S.C. 552b(c)(10) applicable to the consideration of a “particular case of formal agency adjudication.” Commission members determined that public announcement of the closed meeting at an earlier time was not practicable.

CONTACT PERSON FOR MORE INFO: Jean Ellen, (202) 434-9950/(202) 708-9300 for TDD Relay/1-800-877-8339 for toll free.

Jean Ellen,
Federal Mine Safety & Health Review Commission.

[FR Doc. 2011-4349 Filed 2-23-11; 4:15 pm]

BILLING CODE P